ENVIRONMENTAL PROTECTION AGENCY

[FRL-6537-8]

Regulatory Reinvention (XL) Pilot Projects

AGENCY: Environmental Protection Agency (EPA).

ACTION: Notice of availability of the Project XL Proposed Final Project Agreement: International Paper Predictive Emissions Monitoring Project.

SUMMARY: EPA is requesting comments on a proposed Project XL Final Project Agreement (FPA) for International Paper, U.S.A. (hereafter “International Paper”). The FPA is a voluntary agreement developed collaboratively by International Paper, the State of Maine Division of Environmental Protection, the Town of Jay Maine and EPA. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

In the draft FPA, International Paper proposes to develop, test, and implement a computer model that can estimate pollutant emissions on a continuous basis. Currently, International Paper is required to measure some of these pollutants only once every year. If successfully developed and implemented, this computer model would provide the surrounding community with information on emissions that is continuous, non-biased, credible, and reliable. IP is seeking regulatory flexibility in two areas. The first is to allow minor exceedances above existing permit limits to develop the computer model. The second area of flexibility requested is from the frequency of stack testing and the replacement of continuous emission monitoring with the computer model. These requirements are primarily embodied in state regulations that have been approved by EPA and are considered to be federally enforceable.

DATES: The period for submission of comments ends on March 16, 2000.

ADDRESSEES: All comments on the proposed Final Project Agreement should be sent to: Chris Rascher, EPA New England, 1 Congress Street (SPP), Boston, MA 02114, or Ted Cochin, U.S. EPA, Room 1025 (1802), 401 M Street, SW, Washington, DC 20460. Comments may also be faxed to Mr. Rascher (617) 918-1810, or Mr. Cochin (202) 401-6637. Comments may also be received via electronic mail sent to: rascher.chris@epa.gov or cochin.ted@epa.gov.

FOR FURTHER INFORMATION CONTACT: To obtain a copy of the proposed Final Project Agreement, Test Plan or Fact Sheet, contact: Chris Rascher, EPA New England, 1 Congress Street (SPP), Boston Massachusetts, or Ted Cochin, U.S. EPA, 401 M Street SW Room 1025WT (1802), Washington DC 20460. The FPA and related documents are also available via the Internet at the following location: http://www.epa.gov/ProjectXL. Public files on the project, including the FPA, are also available for review at the Town Hall, Town of Jay, Maine. Questions to EPA regarding the documents can be directed to Christopher Rascher at (617) 918-1834 or Ted Cochin at (202) 260-0880. To be included on the International Paper Project XL mailing list about future public meetings, XL progress reports and other mailings from International Paper on the XL project, contact Kimberly Thompson, International Paper, Androscoggin Mill, 207-897-1554. For information on all other aspects of the XL Program contact Christopher Knopes at the following address: Office of Policy and Reinvention, United States Environmental Protection Agency, 401 M Street, SW Room 1029WT (Mail Code 1802), Washington, DC 20460. Additional information on Project XL, including documents referenced in this notice, other EPA policy documents related to Project XL, regional XL contacts, application information, and descriptions of existing XL projects and proposals, is available via the Internet at http://www.epa.gov/projectxl/inter/page1.htm.

Dated: February 10, 2000.
Richard T. Farrell,
Associate Administrator, Office of Policy and Reinvention.

[FR Doc. 00-3490 Filed 2-14-00; 8:45 am]

BILLING CODE 6560-50-P